INTERNATIONAL TRADE COMMISSION

[Investigation No. 337-TA-406, Consolidated Enforcement and Advisory Opinion Proceedings]

In the Matter of Certain Lens-Fitted Film Packages; Notice of Institution of Formal Enforcement and Advisory Opinion Proceedings

AGENCY: U.S. International Trade Commission.

ACTION: Notice.

SUMMARY: Notice is hereby given that the U.S. International Trade Commission has instituted a formal enforcement proceeding relating to certain remedial orders issued at the conclusion of the above-captioned investigation. The Commission has also instituted advisory opinion proceedings in the same investigation. The Commission has determined to deny complainant's request for separate proceedings to modify the remedial orders issued in the above-captioned investigation.

FOR FURTHER INFORMATION CONTACT: Jean Jackson, Esq., telephone 202-205-3104, or Tim Yaworski, Esq., telephone 202-205-3096, Office of the General Counsel, U.S. International Trade Commission, 500 E Street, SW., Washington, D.C. 20436. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS-ON-LINE) at http://dockets.usitc.gov/eol.public. Hearing-impaired persons are advised that information on the matter can be obtained by contacting the Commission's TDD terminal on 202-205-1810.

SUPPLEMENTARY INFORMATION: This investigation was instituted on March 25, 1998, based on a complaint by Fuji Photo Film Co., Ltd. (Fuji) of Tokyo, Japan. 63 FR 14474. Fuji's complaint alleged unfair acts in violation of section 337 of the Tariff Act of 1930 by 27 respondents in the importation and sale of certain lens-fitted film packages (i.e., disposable cameras) that allegedly infringed one or more claims of 15 patents held by complainant Fuji. On February 24, 1999, the presiding administrative law judge (ALJ) issued his final initial determination, finding a violation of section 337 by 26 of 27 named respondents. (During the evidentiary hearing, Fuji withdrew its claims of infringement as to one named respondent.) The ALJ found infringement of 12 utility patents, but found that Fuji failed to carry its burden of proof in showing infringement of three asserted design patents. On June 2, 1999, the Commission terminated the investigation, finding a violation of section 337 by 26 respondents, by reason of infringement of various claims of all 15 patents, including the design patents. 64 FR 30541 (June 8, 1999). The Commission issued a general exclusion order, prohibiting the importation of disposable cameras that infringed any of the claims of the 15 patents at issue, and cease and desist orders to 20 domestic respondents.

On June 27, 2001, Fuji filed a “Complaint for Enforcement Proceedings Under Rule 210.75, Petition for Modification Under Rule 210.76 and/or Request for Advisory Opinion Under Rule 210.79.” Fuji's enforcement complaint asserts 22 claims contained in nine utility patents and named 20 entities as “enforcement respondents.” On July 18, 2001, Fuji withdrew its complaint against one enforcement respondent, Jazz Photo Corp. On July 20, Fuji withdrew its complaint against two additional enforcement respondents, GrandwayChina and Grandway U.S.A.

The Commission, having examined the request for a formal enforcement proceeding filed by Fuji, and having found that the request complies with the requirements for institution of a formal enforcement proceeding, determined to institute formal enforcement proceedings to determine whether the twelve respondents named below are in violation of the Commission's general exclusion order and/or cease and desist orders issued in the investigation, and what if any enforcement measures are appropriate.

The following were named as parties to the formal enforcement proceeding: (1) Complainant Fuji Photo Film Co., Ltd; (2) respondent Achiever Industries, Ltd., (3) respondent Ad-tek Specialities, Inc.; (4) respondent Americam, Inc.; (5) respondent Argus Industries, Inc; (6) respondent Boeck's Camera, LLC; (7) respondent Camera Custom Design a/k/a Title the Moment; (8) respondent Charles Randolph Company; (9) respondent CS Industries a/k/a PLF. Inc.; (10) respondent The Message Group; (11) respondent Penmax, Inc.; (12) respondent Photoworks, Inc; (13) respondent Vastfame Camera Ltd.; and (14) a Commission investigative attorney to be designated by the Director, Office of Unfair Import Investigations.

The Commission, having examined the request for an advisory opinion filed by Fuji, and having found that the request complies with the requirements for institution of advisory opinion proceedings, determined to institute advisory opinion proceedings to determine whether the importation of certain cameras would violate the general exclusion order issued in the above-captioned investigation. The following were named as parties to the advisory opinion proceedings: (1) Complainant Fuji Photo Film Co., Ltd.; (2) Achiever Industries, Ltd., (3) Ad-tek Specialities, Inc.; (4) Americam, Inc.; (5) Argus Industries, Inc; (6) Atico International USA, Inc.; (7) Boeck's Camera, LLC; (8) Camera Custom Design a/k/a Title the Moment; (9) Charles Randolph Company; (10) CS Industries a/k/a PLF. Inc.; (11) Diamond City International Gift, Inc.; (12) Elite Brands, Inc.; (13) Highway Holdings, Ltd.; (14) The Message Group; (15) Penmax, Inc.; (16) Photoworks, Inc; (17) Sky Light International, Ltd.; (18) Vastfame Camera Ltd.; and (19) a Commission investigative attorney to be designated by the Director, Office of Unfair Import Investigations.

The Commission has denied Fuji's request for separate proceedings to modify the remedial orders issued in the above-referenced investigation. Such orders can be modified, if appropriate, in the context of the enforcement proceedings under Commission rule 210.75, 19 CFR 210.75.

This action is taken under the authority of section 337 of the Tariff Act of 1930, as amended (19 U.S.C. 1337), and sections 210.75 and 210.79 of the Commission's Rules of Practice and Procedure (19 CFR 210.75 and 210.79).

Issued: July 31, 2001.
By order of the Commission.
Donna R. Koehnke,
Secretary.

[FR Doc. 01-19495 Filed 8-2-01; 8:45 am]

BILLING CODE 7020-02-P